SMALL BUSINESS ADMINISTRATION

Data Collection Available for Public Comments and Recommendations

ACTION: Notice and request for comments.

SUMMARY: In accordance with the Paperwork Reduction Act of 1995, this notice announces the Small Business Administration's, National Women's Business Council's (NWBC's) intentions to request approval on a new information collection. This information collection request (ICR) will be used to obtain data on the participation of women-owned small business in Federal subcontracting.

DATES: Submit comments on or before April 16, 2002.

ADDRESSES: Send all comments regarding whether this information collection is necessary for the proper performance of the function of the NWBC, whether the burden estimate is accurate, and if there are ways to minimize the estimated burden and enhance the quality of the collection, to Laura Eyester, Acting Executive Director, NWBC, 409 3rd Street, SW, Suite 210, Washington, DC 20416.

FOR FURTHER INFORMATION CONTACT: Laura Eyester, Acting Executive Director, NWBC, at (202) 205-6828 or Curtis B. Rich, Management Analyst, SBA, at (202) 205-7030.

SUPPLEMENTARY INFORMATION: Title: Subcontracting Report.

Form No: N/A.

Description of Respondents: Large businesses that contract with the Federal Government.

Annual Responses: 350.

Annual Burden: 245.

Jacqueline White,
Chief, Administration Information Branch.

[FR Doc. 02-3778 Filed 2-14-02; 8:45 am]

BILLING CODE 8025-01-P